FEDERAL COMMUNICATIONS COMMISSION

Sunshine Act Meeting; Open Commission Meeting, Thursday, May 13, 2004

May 6, 2004.

The Federal Communications Commission will hold an Open Meeting on the subjects listed below on Thursday, May 13, 2004, which is scheduled to commence at 9:30 a.m.in Room TW-C305, at 445 12th Street, SW., Washington, DC.

Item no. | Bureau | Subject
1 | Wireless Tele-Communications, Wireline Competition, and Consumer & Governmental Affairs | The Wireless Telecommunications Bureau, Wireline Competition Bureau and the Consumer & Governmental Affairs Bureau will present a progress report on number portability implementation.
2 | Wireline Competition | Title: Access Charge Reform (CC Docket No. 96-262); Reform of Access Charges Imposed by Competitive Local Exchange Carriers; and Petition of Z-tel Communications, Inc. for Temporary Waiver of Commission Rule 61.26(d) to Facilitate Deployment of Competitive Service in Certain Metropolitan Statistical Areas.
|  | Summary: The Commission will consider an Eighth Report and Order and Fifth Order on Reconsideration concerning amendments to and clarification of the rules governing the tariffing of interstate switched exchange access services provided by competitive LECs.
3 | Wireline Competition | Title: The Use of N11 Codes and Other Abbreviated Dialing Arrangements (CC Docket No. 92-105).
|  | Summary: The Commission will consider a Notice of Proposed Rulemaking seeking comment on various abbreviated dialing arrangements that could be used by state “One Call” notification systems in compliance with the Pipeline Safety Improvement Act of 2002.
4 | International | Title: AT&T Corp. Emergency Petition for Settlements Stop Payment Order and Request for Immediate Interim Relief (IB Docket No. 03-38); and Petition of WorldCom, Inc. for Prevention of “Whipsawing” on the U.S.-Philippines Route.
|  | Summary: The Commission will consider an Order on Review that will address petitions for review of the March 10, 2003 Order finding that the Philippine carriers named in that Order “whipsawed” U.S. carriers, and ordering the suspension of payments for termination services to the Philippine carriers pending restoration of circuits.
5 | Office of Engineering and Technology | Title: Unlicensed Operation in the TV Broadcast Bands; Additional Spectrum for Unlicensed Devices Below 900 MHz and in the 3 GHz Band (ET Docket No. 02-380).
|  | Summary: The Commission will consider a Notice of Proposed Rulemaking concerning unlicensed operation in the TV broadcast bands.

Additional information concerning this meeting may be obtained from Audrey Spivack or David Fiske, Office of Media Relations, (202) 418-0500; TTY 1-888-835-5322.

Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 04-10824 Filed 5-7-04; 3:19 pm]

BILLING CODE 6712-01-P